COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before January 19, 2006.

FOR FURTHER INFORMATION OR A COPY CONTACT: David Van Wagner, Division of Market Oversight, U.S. Commodity Futures Trading Commission, 1155 21st Street, NW., Washington, DC 20581, (202) 418-5481; FAX: (202) 418-5527; e-mail: dvanwagner@cftc.gov and refer to OMB Control No. 3038-0048.

SUPPLEMENTARY INFORMATION: Title: Off-Exchange Agricultural Trade Options (OMB Control No. 3038-0048). This is a request for extension of a currently approved information collection.

Abstract: Off-Exchange Agricultural Trade Options, OMB Control No. 3038-0048—Extension.

In April 1998, the Commodity Futures Trading Commission (Commission or CFTC) removed the prohibition on off-exchange trade options on the enumerated agricultural commodities subject to a number of regulatory conditions. 63 FR 18821 (April 16, 1998). Thereafter, the Commission streamlined the regulatory or paperwork burdens in order to increase the utility of agricultural trade options while maintaining basic customer protections. 64 FR 68011 (Dec. 6, 1999).

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on October 12, 2005 (70 FR 59319).

Burden statement: The respondent burden for this collection is estimated to average 5.59 hours per response.

Respondents/Affected Entities: 360.

Estimated number of responses: 411.

Estimated total annual burden on respondents: 2,391 hours.

Frequency of collection: On occasion.

Send comments regarding the burden estimated or any other aspect of the information collection, including suggestions for reducing the burden, to the addresses listed below. Please refer to OMB Control No. 3038-0048 in any correspondence.

David Van Wagner, Division of Market Oversight, U.S. Commodity Futures Trading Commission, 1155 21st Street, NW., Washington, DC 20581; and Office of Information and Regulatory Affairs, Office of Management and Budget, Attention: Desk Officer for CFTC, 725 17th Street, Washington, DC 20503.

Dated: December 15, 2005.
Jean A. Webb,
Secretary of the Commission.

[FR Doc. 05-24254 Filed 12-19-05; 8:45 am]

BILLING CODE 6351-01-M